ENVIRONMENTAL PROTECTION AGENCY

40 CFR Part 271

[EPA-R03-RCRA-2008-0256; FRL-8574-7]

Virginia: Final Authorization of State Hazardous Waste Management Program Revision; Withdrawal of Immediate Final Rule

AGENCY: Environmental Protection Agency (EPA).

ACTION: Withdrawal of immediate final rule.

SUMMARY: EPA is withdrawing the immediate final rule for Virginia: Final Authorization of State Hazardous Waste Management Program revision published on April 3, 2008, which authorized changes to Virginia's hazardous waste program under the Resource Conservation and Recovery Act (RCRA). EPA stated in the immediate final rule that if EPA received written comments that oppose this authorization during the comment period, EPA would publish a notice of withdrawal in the Federal Register prior to the effective date of June 2, 2008. Since EPA did receive a comment that opposes this authorization, EPA is withdrawing the immediate final rule. EPA will address these comments in a subsequent final action based on the proposed rule also published on April 3, 2008 at 73 FR 18229.

DATES: As of June 3, 2008, EPA withdraws the immediate final rule published on April 3, 2008 at 73 FR 18172.

FOR FURTHER INFORMATION CONTACT: Thomas UyBarreta, Mailcode 3WC21, RCRA State Programs Branch, U.S. EPA Region III, 1650 Arch Street, Philadelphia, PA 19103-2029.

SUPPLEMENTARY INFORMATION: Because EPA received written comments that oppose this authorization, EPA is withdrawing the immediate final rule for Virginia: Final Authorization of State Hazardous Waste Management Program Revision published on April 3, 2008 at 73 FR 18172, which authorized changes to Virginia's hazardous waste program. EPA stated in the immediate final rule that if EPA received written comments that oppose this authorization during the comment period, EPA would publish a notice of withdrawal in the Federal Register prior to the effective date of June 2, 2008. Since EPA received comments that oppose this action, today EPA is withdrawing the immediate final rule. EPA will address the comments received during the comment period in a subsequent final action based on the proposed rule also published on April 3, 2008. EPA will not provide for additional public comment during the final action.

Dated: May 22, 2008.
William T. Wisniewski,
Acting Regional Administrator, Region III.

[FR Doc. E8-12377 Filed 6-2-08; 8:45 am]

BILLING CODE 6560-50-P